DEPARTMENT OF STATE

[Public Notice 4980]

Foreign Terrorists and Terrorist Organizations; Designation

Amendment of a certain designation in order to revoke Kahane.net as an alias of Kahane Chai, also known as Kach, also known as Kahane Lives, also known as the Kfar Tapuah Fund, also known as The Judean Voice, also known as The Judean Legion, also known as The Way of the Torah, also known as The Yeshiva of the Jewish Idea, also known as the Repression of Traitors, also known as Dikuy Bogdim, also known as DOV, also known as the State of Judea, also known as the Committee for the Safety of the Roads, also known as the Sword of David, also known as Judea Police, also known as Forefront of the Idea, also known as The Qomemiyut Movement, also known as KOACH, also known as New Kach Movement, also known as newkach.org, also known as Kahane, also known as Yeshivat HaRav Meir, also known as the International Kahane Movement, also known as Kahane.org, also known as Kahanetzadak.com, also known as Kahane Tzadak, also known as the Hatikva Jewish Identity Center, also known as the Rabbi Meir David Kahane Memorial Fund, also known as Friends of the Jewish Idea Yeshiva, also known as Judean Congress, also known as Jewish Legion, also known as The Voice of Judea, also known as No'ar Meir, also known as Meir's Youth, also known as American Friends of Yeshivat Rav Meir, also known as American Friends of the United Yeshiva Movement, also known as The Committee Against Racism and Discrimination (CARD).

In consultation with the Attorney General, the Secretary of the Treasury, and the Secretary of Homeland Security, the Secretary of State hereby revokes the designation made under the authority of section 1(b) of Executive Order 13224 of September 23, 2001, of Kahane.net as an alias of Kahane Chai (also known as Kach, Kahane.org, and the other aliases listed above) based on a finding that circumstances have changed in such a manner as to warrant revocation. This revocation is made by amending the referenced designation and is effective on the date of publication of this notice. In all other respects, the designation under the authority of section 1(b) of Executive Order 13224 of September 23, 2001, of Kahane Chai (also known as Kach, Kahane.org, and the other aliases listed above) is maintained.

Dated: January 25, 2005.
William P. Pope,
Acting Coordinator for Counterterrorism, Department of State.

[FR Doc. 05-1609 Filed 1-27-05; 5:00 pm]

BILLING CODE 4710-10-P